DEPARTMENT OF DEFENSE

Department of the Army

Privacy Act of 1974; System of Records

AGENCY: Department of the Army, DoD.

ACTION: Notice to alter systems of records.

SUMMARY: The Department of the Army is altering three systems of records notices in its existing inventory of record systems subject to the Privacy Act of 1974, (5 U.S.C. 552a), as amended.

DATES: This proposed action will be effective without further notice on January 8, 2001 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed systems reports, as required by 5 U.S.C. 552a(r) of the Privacy Act of 1974, as amended, were submitted on November 27, 2000, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 30, 2000.
L.M. Bynum,
Alternate OSD Federal Register Liaison Officer, Department of Defense.

A0020-1a SAIG

System name:

Inspector General Investigation Files (May 11, 1999, 64 FR 25308).

Changes:

* * * * *

Routine uses of records maintained in the system, including categories of users and the purposes of such uses:

Add a new paragraph “To victims and witnesses of a crime for purposes of providing information, consistent with the requirements of the Victim Witness Assistance Program, regarding the investigation and disposition of an offense.”

* * * * *

A0020-1aa SAIG

System name:

Inspector General Investigation Files.

System location:

Primary location: Office of the U.S. Army Inspector General Agency, Headquarters, Department of the Army, 1700 Army Pentagon, Washington, DC 20310-1700.

Secondary location: Offices of Inspector General at major Army commands, field operating agencies, installations and activities, Army-wide. Official mailing addresses are published as an appendix to the Army's compilation of systems of records notices.

Categories of individuals covered by the system:

Any individual, military or civilian, against whom allegations of wrongdoing have been made related to violations of laws, rules, or regulations or to mismanagement, gross waste of funds, or abuse of authority, that have been reviewed or investigated.

Categories of records in the system:

Investigation case files containing investigative reports, such as, preliminary inquiries and Reports of Investigation (ROIs), and administrative documents; and computer indices. ROIs include the authority for the inquiry/investigation, matters investigate, narrative, summaries/excerpts of testimony given by witnesses and appended exhibits that may include supporting documents, documentary evidence, summaries of interviews or transcripts of verbatim testimony, or other investigative information from Federal, State, and local investigative agencies and departments. Administrative documents in the files include those that guide or facilitate inquiry/investigative activities in the cases and provide the opening, transfer, or closing data for the cases. Computerized indices contain the names/subjects of the inquiry/investigation, opening and closing dates, codes for the type of allegations and their disposition, brief summaries of allegations, case notes, locations of the inquiries/investigations and the assigned case numbers.

Authority for maintenance of the system:

10 U.S.C. 3013, Secretary of the Army; 10 U.S.C. 3014; 10 U.S.C. 3020; 10 U.S.C. 3065(a); Inspector General Act of 1978 (Pub L. 95-452), as amended; 42 U.S.C. 10606 et seq., Victims Rights; Department of Defense Directive 1030.1, Victim and Witness Assistance.

Purpose(s):

To review and conduct non-criminal law enforcement inquiries/investigations into allegations of wrongdoing by Army personnel related to violations of laws, rules, or regulations or to mismanagement, gross waste of funds, or abuse of authority and report the results to the Office of the Secretary of Defense, the Department of Defense Inspector General, Office of the Secretary of the Army and Army officials, and to commanders so they may discharge their responsibilities under the Inspector General Act of 1978 for maintaining discipline, law, and order.

To provide detailed information necessary for the Secretary of Defense and Secretary of the Army, Army officials and commanders to direct further investigation, effect corrective personnel or other administrative action; to provide facts and evidence upon which to base prosecution; to provide information to other investigative elements of the Army, Department of Defense, other Federal, State, or local agencies having jurisdiction over the substance of the allegations or a related investigative interest; to provide information upon which determinations may be made for individuals' suitability for various personnel actions including but not limited to retention, promotion, assignment, retirement in grade or selection for sensitive or critical positions in the Armed Forces or Federal service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

The DoD ‘Blanket Routine Uses’ set forth at the beginning of the Army's compilation of systems of records notices also apply to this system.

Policies and practices for storing, retrieving, accessing, retaining, and disposing of records in the system:

Storage:

Paper records in file folders; electronic storage media; CD-ROM.

Retrievability:

By individual's full name and/or other descriptive information cross-referenced to the case number.

Safeguards:

Access is limited to authorized individuals having need for the records in the performance of their official duties. Paper files and CD-ROMs are stored in containers with locks, located in a locked room, in a secured building with controlled access. Computer indices are secured in locked rooms with limited/controlled access. Access to computerized information is controlled by a system of assigned passwords and available only to personnel responsible for system operation and maintenance.

Retention and disposal:

Office of The Inspector General primary location of inquiry/investigative case files that contain allegations, that attract high public and/or Congressional Committee or Sub-Committee interest, or that are deemed to be historical significance by the Inspector General, are retained for 30 years, except that they may be offered to the National Archives after 25 years. Paper files are transferred to a Federal Records Center 2 years after completion of the inquiries/investigations and destroyed by burning upon completion of the transfer. The case files on CD-ROMs are erased by media being physically destroyed, unless retained permanently by the National Archives. Paper files of closed inquiry/investigative cases held by the secondary location Offices of The Inspector General are retained for up to 3 years, at the conclusion of which they are forwarded to the Office of The Inspector General system manager for optical scanning and retention as stated above.

System manager(s) and address:

Chief, Investigations Division, Office of the Inspector General, Headquarters, Department of the Army, 1700 Army Pentagon, Washington, DC 20310-1700.

Notification procedure:

Individuals seeking to determine if information about themselves is contained in this system should address written inquiries to the Office of the Inspector General, Headquarters, Department of the Army, ATTN: Records Release Office, 1700 Army Pentagon, Washington, DC 20310-1700.

Individual should provide the full name, home address, telephone numbers and Army unit or activity to which assigned at the time of any Army Inspector General investigation, and a free statement. Requests submitted on behalf of other persons must include their written, notarized or certified authorization.

Record access procedures:

Individuals seeking to determine if information about themselves is contained in this system should address written inquiries to the Office of the Inspector General, Headquarters, Department of the Army, ATTN: Records Release Office, 1700 Army Pentagon, Washington, DC 20310-1700.

Individual should provide the full name, home address, telephone numbers and Army unit or activity to which assigned at the time of any Army Inspector General investigation, and a fee statement. Requests submitted on behalf of other persons must include their written, notarized or certified authorization.

Contesting record procedures:

The Army's rules for accessing records, and for contesting contents and appealing initial agency determinations are contained in Army Regulation 340-21; 32 CFR part 505; or may be obtained from the system manager.

Record source categories:

From the individual, Army records and reports, and other sources providing or containing pertinent information.

Exemptions claimed for the system:

Investigatory material complied for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material complied solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 505. For additional information contact the system manager.

A0027-10a DAJA

System name:

Prosecutorial Files (February 22, 1993, 58 FR 10002).

Changes:

* * * * *

Categories of individuals covered by the system:

Delete entry and replace with “Any individual who is the subject of a military justice investigation, a Court or Board of Inquiry, other administrative or disciplinary hearing, or pending trial by courts-material.”

Categories of records in the system:

Add to the entry “convening orders; appointment orders; investigative reports of federal, state, and local law enforcement agencies; local command investigations; immunity requests; search authorizations; general correspondence; legal research and memorandum; motions; forensic reports; pretrial confinement orders; personal, financial, and medical records; report of Article 32, UCMJ investigations; subpoenas; discovery requests; correspondence reflecting pretrial negotiations; requests for resignation or discharge in lieu of trail by court-martial; work product of trial counsel; results of trial memoranda; and forms to comply with the Victim and Witness Assistance Program, the Sexual Assault Prevention and Response Program and the Victim's Rights and Restitution Act of 1990.”

Authority for maintenance of the system:

Delete entry and replace with “10 U.S.C. 3013, Secretary of the Army; 42 U.S.C. 10606 et seq., Victims' Rights; Department of Defense Directive 1030.1, Victim and Witness Assistance; and Army Regulation 27-10, Military Justice.”

Purpose(s):

Change to “To prosecute or otherwise resolve military justice cases; to obtain information and assistance from federal, state, local, foreign agencies, or from individuals or organizations relating to investigation, allegation of criminal misconduct, or court-material; and to provide information and support to victims and witnesses in compliance with Victim and Witness Assistance Statutes and regulations.”

Routine uses of records maintained in the system, including categories of users and purposes of such uses:

Add two new paragraphs “To victims and witnesses of a crime for purposes of providing information, consistent with the requirements of the Victim and Witness Assistance Program, regarding the investigation and disposition of an offense.

To attorney licensing and/or disciplinary authorities as required to support professional responsibility investigations and proceedings.”

* * * * *

Safeguards:

Delete entry and replace with “Information in the system is both classified and unclassified and located in file cabinets in the trial counsel's office or other offices in the Criminal Law section of the Staff Judge Advocate offices. Classified information is stored in locked safe drawers with the proper security measures applicable. Unclassified information is located in file cabinets accessible only to authorized personnel who are properly instructed in the permissible use of the information. Some file cabinets have locking capabilities. Automated files are password protected.

Offices are locked during non-work hours. The files are not accessible to the public or to persons within the command without an official need to know.”

* * * * *

Record source categories:

Add “Court-martial, Article 32; UCMJ investigations; convening authority; Federal, state, and local law enforcement agencies; witness interviews; personnel, financial, and medical records; medical facilities; financial institutions; information provided by the defense/accused; and the work-product of trial counsel and other individuals assisting them on a particular case.”

* * * * *

A0027-10a DAJA

System name:

Prosecutorial Files.

System location:

Decentralized at Staff Judge Advocate Offices. Official mailing addresses are published as an appendix to the Army's compilation of systems of records notices.

Categories of individuals covered by the system:

Any individual who is the subject of a military justice investigation, a Court or Board of Inquiry, other administrative or disciplinary hearing, or pending trial by courts-martial.

Categories of records in the system:

Witness statements; pretrial advice; documentary evidence; exhibits, evidence of previous convictions; personnel records; recommendations as to the disposition of the charges; explanation of any unusual features of the case; charge sheet; and criminal investigation reports; convening orders; appointment orders; investigative reports of federal, state, and local law enforcement agencies; local command investigations; immunity requests; search authorizations; general correspondence; legal research and memoranda; motions; forensic reports; pretrial confinement orders; personal, financial, and medical records; report of Article 32, UCMJ investigations; subpoenas; discovery requests; correspondence reflecting pretrial negotiations; requests for resignation or discharge in lieu of trial by court-martial; work product of trial counsel; results of trial memoranda; and forms to comply with the Victim and Witness Assistance Program, the Sexual Assault Prevention and Response Program and the Victim's Rights and Restitution Act of 1990.

Authority for maintenance of the system:

10 U.S.C. 3013, Secretary of the Army; 42 U.S.C. 10606 et seq., Victims' Rights; Department of Defense Directive 1030.1, Victim and Witness Assistance; and Army Regulation 27-10, Military Justice.

Purpose(s):

To prosecute or otherwise resolve military justice cases; to obtain information and assistance from federal, state, local, or foreign agencies, or from individuals or organizations relating to an investigation, allegation of criminal misconduct, or court-martial; and to provide information and support to victims and witnesses in compliance with Victim and Witness Assistance Statutes and regulations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from this system of records may be disclosed to law students participating in a volunteer legal support program approved by the Judge Advocate General of the Army.

To victims and witnesses of a crime for purposes of providing information, consistent with the requirements of the Victim and Witness Assistance Program, regarding the investigation and disposition of an offense.

To attorney licensing and/or disciplinary authorities as required to support professional responsibility investigations and proceedings.

The DoD “Blanket Routine Uses” set forth at the beginning of the Army's compilation of systems of records notices also apply to this system.

Policies and practices for storing, retrieving, accessing, retaining, and disposing of records in the system:

Storage:

Paper records in file folders and electronic storage media.

Retrievability:

Retrieved by individual's surname.

Safeguards:

Information in the system is both classified and unclassified and located in file cabinets in the trial counsel's office or other offices in the Criminal Law section of the Staff Judge Advocate offices. Classified information is stored in locked safe drawers with the proper security measures applicable. Unclassified information is located file cabinets accessible only to authorized personnel who are properly instructed in the permissible use of the information. Some file cabinets have locking capabilities. Automated filed are password protected. Offices are locked during non-work hours. The files are not accessible to the public or to persons within the command without an official need to know.

Retention and disposal:

Records are destroyed two years after final review/appellate action.

System manager(s) and address:

Chief, Criminal Law Division, Office of the Judge Advocate General, 2200 Army Pentagon, Washington, DC 20310-2000.

Notification procedure:

Individuals seeking to determine whether information about themselves is contained in this system should address written inquiries to the Chief, Criminal Law Division, Office of the Judge Advocate General, 2200 Army Pentagon, Washington, DC 20310-2200.

Individual should provide his/her full name, current address and telephone number, case number and office symbol of Army element which furnished correspondence to the individual, other personnel identifying data that would assist in locating the records. The inquiry must be signed.

Record access procedures:

Individuals seeking access to information about themselves contained in this system should address written inquiries to the Chief, Criminal Law Division, Office of the Judge Advocate General, 2200 Army Pentagon, Washington, DC 20310-2200.

Individual should provide his/her full name, current address and telephone number, case number and office symbol of Army element which furnished correspondence to the individual, other personal identifying data that would assist in locating the records. The inquiry must be signed.

Contesting record procedure:

The Army's rules for accessing records, and for contesting contents and appealing initial agency determinations are contained in Army Regulation 340-21; 32 CFR part 505; or may be obtained from the system manager.

Record source categories:

From official Army records and reports, investigative documents, law enforcement agencies; Court-martial, Article 32; UCMJ investigations; convening authority; Federal, state, and local law enforcement agencies; witness interviews; personnel, financial, and medical records; medical facilities; financial institutions; information provided by the defense/accused; and the work-product of trail counsel and other individuals assisting them on a particular case.

Exemptions claimed for the system:

Parts of this system may be exempt pursuant to 5 U.S.C. 552a(j)(2) if the information is compiled and maintained by a component of the agency which performs as its principle function any activity pertaining to the enforcement of criminal laws.

An exemption rule for this exemption has been promulgated in accordance with requirements of 5 U.S.C. 553(b)(1), (2), and (3), (c) and (e) and published in 32 CFR part 505. For additional information contact the system manager.

A0027-10b DAJA

System name:

Courts-Martial Files (February 22, 1993, 58 FR 10002).

Changes:

* * * * *

System name:

Delete entry and replace with ‘Courts-Martial Records and Reviews'.

* * * * *

Categories of individuals covered by the system:

Delete entry and replace with ‘Individuals having appeared as an accused before a courts-martial.’

* * * * *

Authority for maintenance of the system:

Add to entry ‘10 U.S.C. 3013, Secretary of the Army; 42 U.S.C. 10606 et seq.; Department of Defense Directive 1030.1, Victim and Witness Assistance; 10 U.S.C. 3037, Judge Advocate General; and Army Regulation 27-10b, Military Justice.’

Purpose(s):

Delete entry and replace with ‘The purpose of this system is to satisfy statutory requirements of Chapter 47 of title 10, United States Code, for maintaining records of trial of courts-martial proceedings to complete appellate review, to determine whether clemency is warranted, to answer inquires concerning the state of particular cases, to develop statistical data to guide individuals responsible for making policy decisions regarding military justice activities, to serve as a central repository of Army courts-martial records, and for related purposes.

* * * * *

Routine uses of records maintained in the system, including categories of users and the purposes of such uses:

Add a new paragraph ‘To victims and witnesses of a crime for purposes of providing information, consistent with the requirements of the Victim and Witness Assistance Program, regarding the investigation and disposition of an offense.’

* * * * *

Retention and disposal:

Delete entry and replace with ‘With respect to each courts-martial, there is an original record and from 1 to 5 copies. One copy is given to the accused and the remaining copies are used in the review of the case for legal sufficiency. The original record is disposed of as follows: All records of trial by general courts-martial and those special courts-martial records in which a bad-conduct discharge (BCD) was approved are retained in the Office of the Clerk of Court, U.S. Army Legal Service Agency, 901 North Stuart Street, Suite 1200, Arlington, VA 22203-1837, for 1-2 years after completion of appellate review. Thereafter, the records are forwarded to the Washington National Records Center, 4205 Suitland Road, Suitland, MD 20746-8001 for permanent storage.

Records of trial by special courts-martial (non-BCD) and summary courts-martial are retained in the staff judge advocate office of the general courts-martial authority for 1 year after completion of supervisory review. Thereafter the records are held for 2 years in the record holding area or overseas records center. Records are then sent to National Personnel Records Center (Military Records), 9700 Page Avenue, St. Louis, MO 63132-5200, where they are retained for 7 years. Thereafter, the records are destroyed and the remaining evidence of conviction is the special (non-BCD) and summary courts-martial promulgating orders maintained in the individual's permanent records and any review(s) of the cases conducted pursuant to Articles 69 or 73, UCMJ.

The original reviews of special (non-BCD) and summary courts-martial cases and a copy of all other reviews pursuant to Articles 69 or 73, UCMJ are maintained for 3 years in the Office of the Chief, Examination and New Trials Division, U.S. Army Legal Services Agency, 901 N. Stuart Street, Suite 1200, Arlington, VA 22203-1837. They are retained an additional 7 years at the Washington National Records Center, 4205 Suitland Road, Suitland, MD 20746-8001, and destroyed.

Pre-decisional legal reviews pursuant to Articles 69 or 73, UCMJ are maintained for 3 years in the Office of the Chief, Examination and New Trials, U.S. Army Legal Services Agency, 901 North Stuart Street, Arlington, VA 22203-1837 or at the office of the Judge Advocate General, Criminal Law Division, Department of the Army, Washington, DC 20310-2200. They are retained an additional 7 years at the Washington National Records Center, 4205 Suitland Road, Suitland, MD 20746-8001 and destroyed.

Courts-martial index cards from 1900-1986 are permanently stored at the Office of Clerk of Court, U.S. Army Legal Services Agency, 901 North Stuart Street, Suite 1200, Arlington, VA 22203-1837. Arranged alphabetically by name of the accused, they identify the docket number and accession information for permanent records of trial. Since mid-July 1986, courts-martial information is accessible by computer database.’

* * * * *

A0027-10b DAJA

System name:

Courts-Martial Records and Reviews.

System location:

Clerk of Court, U.S. Army Legal Services Agency, 901 North Stuart Street, Suite 1200, Arlington, VA 22203-1837; Washington National Records Center, 4205 Suitland Road, Suitland, MD 20746-8001; National Personnel Records Center, 9700 Page Avenue, St. Louis, MO 63132-5200; and Office of the Judge Advocate General, Criminal Law Division, Department of the Army, Washington, DC 20310-2200.

Categories of individuals covered by the system:

Individuals having appeared as an accused before a courts-martial.

Categories of records in the system:

Certain general and all special bad conduct discharge (BCD) courts-martial records of trial that include a verbatim transcript of the trial and allied papers relating to the charged offenses and legal review of the case. General courts-martial examined pursuant to Article 69 and special non-bad conduct discharge (non-BCD) and summary courts-martial records of trial may include only a summarized transcript of the trial as well as allied papers relating to the charged offenses, but do not necessarily include all records of review pursuant to Articles 69 or 73, Uniform Code of Military Justice. Pre-decisional legal reviews pursuant to Articles 69 and 73 are separately maintained in this system.

Authority for maintenance of the system:

10 U.S.C. 801-940 (Uniform Code of Military Justice); 10 U.S.C. 3013, Secretary of the Army; 42 U.S.C. 10606 et seq.; Department of Defense Directive 1030.1, Victim and Witness Assistance; 10 U.S.C. 3037, Judge Advocate General; Army Regulation 27-10b, Military Justice; and E.O. 9397 (SSN).

Purpose(s):

The purpose of this system is to satisfy statutory requirements of Chapter 47 of title 10, United States Code, for maintaining records of trial of courts-martial proceedings to complete appellate review, to determine whether clemency is warranted, to answer inquiries concerning the state of particular cases, to develop statistical data to guide individuals responsible for making policy decisions regarding military justice activities, to serve as a central repository of Army courts-martial records, and for related purposes

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Courts-martial records reflect criminal proceedings ordinarily open to the public; therefore, they are normally releasable to the public pursuant to the Freedom of Information Act.

Information from these records may be disclosed to the Department of Justice, the Department of Veterans Affairs, and federal, state, and local law enforcement agencies for determination of rights and entitlements of the individuals concerned and for use in the enforcement of criminal or civil law.

Information from this system of records may also be disclosed to law students participating in a volunteer legal support program approved by the Judge Advocate General of the Army.

To victims and witnesses of a crime for purposes of providing information, consistent with the requirements of the Victim and Witness Assistance Program, regarding the investigation and disposition of an offense.

The DoD ‘Blanket Routine Uses’ set forth at the beginning of the Army's compilation of systems of records notices also apply to this system.

Policies and practices for storing, retrieving, accessing, retaining, and disposing of records in the system:

Storage:

Papers in file folders; index cards; electronic storage medium; courts-martial coding sheets; and on a computer database (Army Courts-Martial Management Information System).

Retrievability:

By individual's name and Social Security number, by court-martial number assigned to the case.

Safeguards:

All records are protected by systems of personnel screening, cipher locks, and hand receipts. During non-duty hours, military police or contract guard patrols ensure protection against unauthorized access. Access to hard disk is controlled by password and is restricted to personnel having a need to know.

Retention and disposal:

With respect to each courts-martial, there is an original record and from 1 to 5 copies. One copy is given to the accused and the remaining copies are used in the review of the case for legal sufficiency. The original record is disposed of as follows:

All records of trial by general courts-martial and those special courts-martial records in which a bad-conduct discharge (BCD) was approved are retained in the Office of the Clerk of Court, U.S. Army Legal Service Agency, 901 North Stuart Street, Suite 1200, Arlington, VA 22203-1837, for 1-2 years after completion of appellate review. Thereafter, the records are forwarded to the Washington National Records Center, 4205 Suitland Road, Suitland, MD 20746-8001 for permanent storage.

Records of trial by special courts-martial (non-BCD) and summary courts-martial are retained in the staff judge advocate office of the general courts-martial authority for 1 year after completion of supervisory review. Thereafter the records are held for 2 years in the record holding area or overseas records center. Records are then sent to National Personnel Records (Military Records), 9700 Page Avenue, St. Louis, MO 63132-5200, where they are retained for 7 years. Thereafter, the records are destroyed and the remaining evidence of conviction is the special (non-BCD) and summary courts-martial promulgating order maintained in the individual's permanent records and any review(s) of the cases conducted pursuant to Articles 69 or 73, UCMJ.

The original reviews of special (non-BCD) and summary courts-martial cases and a copy of all other reviews pursuant to Articles 69 or 73, UCMJ are maintained for 3 years in the Office of the Chief, Examination and New Trails Division, U.S. Army Legal Services Agency 901 N. Stuart Street, Suite 1200, Arlington, VA 22203-1837. They are retained an additional 7 years at the Washington National Records Center, 4205 Suitland Road, Suitland, MD 20746-8001, and destroyed.

Pre-decisional legal reviews pursuant to Articles 69 or 73, UCMJ are maintained for 3 years in the Office of the Chief, Examination and New Trials, U.S. Army Legal Services Agency, 901 North Stuart Street, Arlington, VA 22203-1837 or at the office of the Judge Advocate General, Criminal Law Division, Department of the Army, Washington, DC 20310-2200. They are retained an additional 7 years at the Washington National Records Center, 4205 Suitland Road, Suitland, MD 20746-8001 and destroyed.

Courts-martial index cards from 1900-1986 are permanently stored at the Office of Clerk of Court, U.S. Army Legal Services Agency, 901 North Stuart Street, Suit 1200, Arlington, VA 22203-1837. Arranged alphabetically by name of the accused, they identify the docket number and accession information for permanent records of trial. Since mid-July 1986, courts-martial information is accessible by computer database.

System manager(s) and address:

Clerk of Court, U.S. Army Legal Services Agency, 901 North Stuart Street, Suite 1200, Arlington, VA 22203-1837.

Notification procedure:

Requests from individuals as to whether there are any general or special bad conduct discharge (BCD) courts-martial records in the system pertaining to them should be addressed to the Clerk of Court, U.S. Army Legal Services Agency, 901 N. Stuart Street, Suite 1200, Arlington, VA 22203-1837.

Requests for information as to special non bad conduct discharge (non-BCD) and summary courts-martial records should be addressed to the staff judge advocate of the command where the record was reviewed or, if no longer there, to the National Personnel Records Center (Military Records), 9700 Page Avenue, St. Louis, MO 63132-5200.

Requests for information concerning reviews pursuant to Articles 69 or 73, UCMJ, should be addressed to the Office of the Chief, Examination and New Trails Division, U.S. Army Legal Services Agency, 901 N. Stuart Street, Suite 1200, Arlington, VA 22203-1837. Written requests should include individual's full name, Social Security Number, the record file number if available, and any other personal information which would assist in locating the records.

Record access procedures:

Individuals seeking access to information about themselves contained in this system should address written inquires to the Clerk of the Court, U.S. Army Legal Services Agency, 901 N. Stuart Street, Suite 1200, Arlington, VA 22203-1837, if the type of courts-martial or reviewing command is unknown.

Contesting record procedures:

The Army's rules for accessing records, and for contesting contents and appealing initial agency determinations are contained in Army Regulation 340-21; 32 CFR part 505; or may be obtained from the system manager.

Record source categories:

Information from almost any source may be included in the record if it is relevant and material to courts-martial proceedings.

Exemptions claimed for the system:

Parts of this system may be exempt pursuant to 5 U.S.C. 552a(j)(2) if the information is compiled and maintained by a component of the agency which performs as its principal function any activity pertaining to the enforcement of criminal laws.

An exemption rule for this exemption has been promulgated in accordance with requirements of 5 U.S.C. 553(b)(1), (2), and (3), (c) and (e) and published in 32 CFR part 505. For additional information contact the system manager.

[FR Doc. 00-31244 Filed 12-7-00; 8:45 am]

BILLING CODE 5001-10-M